DEPARTMENT OF ENERGY

Federal Energy Regulatory Commission

[Project No. 14317-001]

Grand Coulee Project Hydroelectric Authority; Notice of Surrender of Preliminary Permit

Take notice that Grand Coulee Project Hydroelectric Authority, permittee for the proposed Scooteney Outlet Drop Hydroelectric Project, has requested that its preliminary permit be terminated. The permit was issued on March 26, 2013, and would have expired on February 29, 2016.¹ The project would have been located on the Potholes East Canal, near Othello in Franklin County, Washington.

¹ 142 FERC ¶ 62,251 (2013).

The preliminary permit for Project No. 14317 will remain in effect until the close of business, June 14, 2015. But, if the Commission is closed on this day, then the permit remains in effect until the close of business on the next day in which the Commission is open.² New applications for this site may not be submitted until after the permit surrender is effective.

² 18 CFR § 385.2007(a)(2) (2014).

Dated: May 15, 2015.
Kimberly D. Bose,
Secretary.

[FR Doc. 2015-12464 Filed 5-21-15; 8:45 am]

BILLING CODE 6717-01-P